DEPARTMENT OF AGRICULTURE

Agricultural Marketing Service

7 CFR Part 905

[Doc. No. AMS-FV-13-0009; FV13-905-2 IR]

Oranges, Grapefruit, Tangerines, and Tangelos Grown in Florida; Relaxing Size and Grade Requirements on Valencia and Other Late Type Oranges

Correction

In rule document 2013-11389 beginning on page 28115 in the issue of Tuesday, May 14, 2013, make the following correction:

§ 905.306 [Corrected]

On page 28117, the table should read:

Table I
Variety | Regulation period | Minimum grade | Minimum diameter (inches)
(1) | (2) | (3) | (4)
* * * * * * *
Valencia and other late type | 08/01/2012-05/14/2013 | U.S. No. 1 | 2 8/16
| 05/15/2013-06/14/2013 | U.S. No. 1 Golden | 2 4/16
| 06/15/2013-08/31/2013 | U.S. No. 2, External; U.S. No. 1, Internal | 2 4/16
On or after 09/01/13
| September 1-May 14 | U.S. No. 1 | 2 8/16
| May 15-June 14 | U.S. No. 1 | 2 4/16
| June 15-July 31 | U.S. No. 2, External; U.S. No. 1, Internal | 2 4/16
| August 1-August 31 | U.S. No. 1 | 2 4/16
* * * * * * *

[FR Doc. C1-2013-11389 Filed 4-8-14; 8:45 am]

BILLING CODE 1505-01-D